DEPARTMENT OF EDUCATION

Notice of Proposed Information Collection Requests

AGENCY: Department of Education.

ACTION: Comment request.

SUMMARY: The Department of Education (the Department), in accordance with the Paperwork Reduction Act of 1995 (PRA) (44 U.S.C. 3506(c)(2)(A)), provides the general public and Federal agencies with an opportunity to comment on proposed and continuing collections of information. This helps the Department assess the impact of its information collection requirements and minimize the reporting burden on the public and helps the public understand the Department's information collection requirements and provide the requested data in the desired format. The Director, Information Collection Clearance Division, Privacy, Information and Records Management Services, Office of Management, invites comments on the proposed information collection requests as required by the Paperwork Reduction Act of 1995 (Pub. L. 104-13).

DATES: Interested persons are invited to submit comments on or before March 27, 2012.

ADDRESSES: Written comments regarding burden and/or the collection activity requirements should be electronically mailed to ICDocketMgr@ed.gov or mailed to U.S. Department of Education, 400 Maryland Avenue SW., LBJ, Washington, DC 20202-4537. Please note that written comments received in response to this notice will be considered public records.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: January 24, 2012.
Darrin A. King,
Director, Information Collection Clearance Division, Privacy, Information and Records Management Services, Office of Management.

Institute of Education Sciences

Type of Review: New.

Title of Collection: Study of Promising Features of Teacher Preparation Programs; Phase 1—Recruitment.

OMB Control Number: 1850-NEW.

Agency Form Number(s): N/A.

Total Estimated Number of Annual Responses: 2,570.

Total Estimated Number of Annual Burden Hours: 2,513.

Abstract: This Information Collection Request (ICR) seeks clearance to select teacher preparation programs, and recruit districts and schools, collect student rosters, and administer a baseline student achievement test for an experimental study of the effect on student learning of teachers who have experienced certain types of clinical practice features within university-based preparation programs.

The objective of this study is to use causal methods to examine the effectiveness of certain university-based clinical practice features for novice teachers. Teachers who have experienced certain types of clinical practice features and who have completed those features are hypothesized to produce higher average student test scores than teachers who have not done so. Using a randomized controlled trial, students will be randomly assigned to a pair of teachers in the same school and grade level, one of whom will have experienced the type of clinical practice of interest (“treatment”) while the other will not have experienced the feature (“control”). Average test scores of the two groups will then be compared.

The Phase I—Recruitment ICR entails the identification of recently-hired teacher pairs who meet the study's eligibility requirements. The study will use a multi-step process to identify these teachers, including identifying feasible states for the study, selecting the specific features related to clinical practice (i.e., the “program”), identifying university-based teacher preparation programs that require such clinical practice, identifying feasible districts and schools for the study, and finally, confirming eligibility of potential teachers for the study. The Phase I—Recruitment ICR requests approval to collect information from preparation programs about their requirements, focusing on aspects of clinical practice specifically, and to collect preliminary information from teachers about their training to determine their eligibility for the study. This package also provides an overview of the study, including its design and data collecting procedures.

Copies of the proposed information collection request may be accessed from http://edicsweb.ed.gov, by selecting the “Browse Pending Collections” link and by clicking on link number 4792. When you access the information collection, click on “Download Attachments” to view. Written requests for information should be addressed to U.S. Department of Education, 400 Maryland Avenue SW., LBJ, Washington, DC 20202-4537. Requests may also be electronically mailed to ICDocketMgr@ed.gov or faxed to (202) 401-0920. Please specify the complete title of the information collection and OMB Control Number when making your request.

Individuals who use a telecommunications device for the deaf (TDD) may call the Federal Information Relay Service (FIRS) at 1 (800) 877-8339.

[FR Doc. 2012-1834 Filed 1-26-12; 8:45 am]

BILLING CODE 4000-01-P